DEPARTMENT OF HOUSING AND URBAN DEVELOPMENT

[Docket No. FR-7086-N-34]

60-Day Notice of Proposed Information Collection: Application for Roster Personnel (Appraisers) Designation and Appraisal Reports; OMB Control No.: 2502-0538

AGENCY: Office of the Assistant Secretary for Housing—Federal Housing Commissioner, HUD.

ACTION: Notice.

SUMMARY: The Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: February 25, 2025.

ADDRESSES: Interested persons are invited to submit comments regarding this proposal. Written comments and recommendations for the proposed information collection can be sent within 60 days of publication of this notice to www.regulations.gov. Interested persons are also invited to submit comments regarding this proposal by name and/or OMB Control Number and can be sent to: Anna Guido, Clearance Officer, REE, Department of Housing and Urban Development, 451 7th Street SW, Room 8210, Washington, DC 20410, telephone (202) 402-5535. (this is not a toll-free number) or email at Anna.P.Guido@hud.gov for a copy of the proposed forms or other available information.

FOR FURTHER INFORMATION CONTACT: Anna Guido, Clearance Officer, REE, Department of Housing and Urban Development, 451 7th Street SW, Room 4176, Washington, DC 20410; telephone (202) 402-5535 (this is not a toll-free number) or email at Anna.P.Guido@hud.gov. HUD welcomes and is prepared to receive calls from individuals who are deaf or hard of hearing, as well as individuals with speech and communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Application for Fee or Roster Personnel (Appraisers). Designation and Appraisal Reports.

OMB Approval Number: 2502-0538.

Type of Request: Extension.

Form Number: HUD 92563-A, HUD 92564-CN, Fannie Mae Forms: 1004, 1004C, 1004D, 1007, 1025, 1073, 1075, and 2055.

Description of the need for the information and proposed use: Accurate and thorough Appraisal reporting is critical to the accuracy of underwriting for the mortgage insurance process. The need for accuracy is increased for a Federal Housing Administration (FHA) insured mortgage since buyers tend to have more limited income and lower equity in the properties. This collection of information provides a more thorough and complete appraisal of prospective HUD-insured single-family properties ensuring that mortgages are acceptable for FHA insurance and thereby protect the interest of HUD, the taxpayers, and the FHA insurance fund. The collection allows HUD to maintain an effective appraisal program with the ability to discipline appraisers and inform potential homeowners of the benefits of purchasing an independent home inspection.

Respondents: Business or other for profit and potential home purchasers.

Estimated Number of Respondents: 22,973.

Estimated Number of Responses: 657,287.

Frequency of Response: On occasion.

Average Hours per Response: 0.02.

Total Estimated Burdens: $497,627.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. chapter 35.

Jeffrey D. Little,
General Deputy Assistant Secretary for Housing.

[FR Doc. 2024-30796 Filed 12-26-24; 8:45 am]

BILLING CODE 4210-67-P